ENVIRONMENTAL PROTECTION AGENCY

[OPP-00676; FRL-6741-4]

Tribal Pesticide Program Council (TPPC) General Meeting

AGENCY: Environmental Protection Agency (EPA).

ACTION: Notice.

SUMMARY: The Tribal Pesticide Program Council (TPPC) will hold a 2-day meeting, beginning on September 27, 2000 and ending on September 28, 2000. This notice announces the location and times for the meeting and sets forth the tentative agenda topics. This meeting is open to the general public, but there will be a Tribal Caucus for internal TPPC matters, which will be closed to the general public.

DATES: The meeting will be held on September 27, 2000 from 9 a.m. to 5:30 p.m., including a Tribal Caucus from 3:30 p.m. to 4:30 p.m., and September 28, 2000 from 9 a. m. to 3:45 p.m.

Requests to participate in the meeting may be received until September 25, 2000.

ADDRESSES: The meeting will be held at the Yakama Nation - Winterlodge Cultural Heritage Center, (ask for directions to the Yakama Agency complex), Buster Lane, Toppenish, WA.

Requests to participate may be submitted by mail, electronically, or in person. Please follow the detailed instructions for each method as provided in Unit I.C. of the SUPPLEMENTARY INFORMATION. To ensure proper receipt by EPA, it is imperative that you identify docket control number OPP-00676 in the subject line on the first page of your response.

FOR FURTHER INFORMATION CONTACT: Lillian Wilmore, TPPC Facilitator, P.O. Box 470829; Brookline Village, MA. 02447-0829; telephone number (617) 232-5742; Fax Number (617) 277-1656; e-mail address: naecology@aol.com or Georgia A. McDuffie, Field and External Affairs Division (7506C), Office of Pesticide Programs, Environmental Protection Agency, 1200 Pennsylvania Ave., NW., Washington, DC 20460; telephone number: (703) 605-0195; fax number: (703) 308-1850; e-mail address: mcduffie.georgia@epa.gov.

SUPPLEMENTARY INFORMATION:

I. General Information

A. Does this Action Apply to Me?

This action is directed to the public in general. This action may, however, be of interest to Tribes with pesticide programs or pesticide interests. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket control number OPP-00676. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2 (CM #2), 1921 Jefferson Davis Hwy., Arlington, VA, from 8:30 a.m. to 4 p.m., Monday through Friday, excluding legal holidays. The PIRIB telephone number is (703) 305-5805.

C. How Can I Request to Participate in this Meeting?

You may submit a request to participate in this meeting through the mail, in person, or electronically. Do not submit any information in your request that is considered CBI. Your request must be received by EPA on or before September 25, 2000. To ensure proper receipt by EPA, it is imperative that you identify docket control number OPP-00676 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, CM #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0 or ASCII file format. All comments in electronic form must be identified by docket control number OPP-00676. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket control number assigned to this action in the subject line on the first page of your response. You may also provide the name, date, and Federal Register citation.

II. Background

The first official Tribal Pesticide Program Council (TPPC) meeting was held in January 2000 in Washington, DC. The TPPC was founded, based on tribal needs, views and goals, to provide Tribes with a voice in national pesticide policy and issues. Native Ecology Initiative (NEI), a non-profit organization, was awarded the EPA cooperative agreement to form the TPPC. The formation of the TPPC has created a strong mechanism for communication between tribes and EPA, which has led to a more effective way for tribal members to share with EPA staff their real world experience with pesticide issues in Indian country.

III. Tentative Agenda

September 27, 2000 (Wednesday)

Welcome and greetings invocation

General session - Open to all participants introductions

Report from the chairman - State of the Council

Reports from working groups

Reports from TPPC Reps to other meetings and groups

Panel and discussion on Tribal authority and jurisdictional issues under FIFRA

Presentation on Integrated Pest Management (IPM)

Tribal caucus (closed - Council members only)

Baseline assessment presentation

Wrap-up, review of agenda for day two; opportunity to place issues on TPPC agenda

September 28, 2000 (Thursday)

Welcome and greetings invocation

General session - Open to all participants, presentation and discussion on federal inspector credentials

Presentation of Shoalwater Bay Indian Tribe

New council member - pesticide concerns

Report and review on pesticide contamination of NAGPRA items

Presentation by Yakama Nation reps - overview of their history, culture, environmental program issues; Yakama agriculture

Presentation and discussion on Tribal Pesticide Program Development - What is Needed?

Wrap-Up, opportunity to place issues on TPPC agenda, and report on plans for next year

List of Subjects

Environmental protection.

Dated: August 28, 2000.
Anne E. Lindsay,
Director, Field and External Affairs Division, Office of Pesticide Programs.

[FR Doc. 00-22526 Filed 8-31-00; 8:45 am]

BILLING CODE 6560-50-S